DEPARTMENT OF LABOR

Employment and Training Administration

[TA-W-37,033]

United Technologies Automotive, Inc., A/K/A Lear Corporation, Ceramic Avenue Plant, Zanesville, Ohio; Amended Certification Regarding Eligibility To Apply for Worker Adjustment Assistance

In accordance with Section 223 of the Trade Act of 1974 (19 U.S.C. 2273) the Department of Labor issued a Notice of Certification Regarding Eligibility to Apply for Worker Adjustment Assistance on January 26, 2000, applicable to workers of United Technologies Automotive, Inc., a/k/a Lear Corporation, Zanesville, Ohio. The notice will be published soon in the Federal Register.

At the request of the State agency, the Department reviewed the certification for workers of the subject firm. The workers produce electrical wiring harnesses for automobiles. New findings show that there was a previous certification, TA-W-33,043, issued on February 6, 1997, for workers of United Technologies, Zanesville, Ohio, who were engaged in employment related to the production of electrical wiring harnesses for automobiles. That certification expired February 6, 1999. To avoid an overlap in worker group coverage, the certification is being amended to change the impact date from October 18, 1998 to February 7, 1999, for workers of the subject firm.

The amended notice applicable to TA-W-37,033 is hereby issued as follows:

All workers of United Technologies Automotive, Inc., also known as Lear Corporation, Ceramic Avenue Plant, Zanesville, Ohio, who became totally or partially separated from employment on or after February 7, 1999 through January 26, 2002 are eligible to apply for adjustment assistance under Section 223 of the Trade Act of 1974.

Signed at Washington, DC, this 11th day of February, 2000.
Grant D. Beale,
Program Manager, Office of Trade Adjustment Assistance.

[FR Doc. 00-4128 Filed 2-18-00; 8:45 am]

BILLING CODE 4510-30-M